DEPARTMENT OF ENERGY

Federal Energy Regulatory Commission

[Docket No. RC11-6-021]

North American Electric Reliability Corporation: Notice of Filing

Take notice that on September 23, 2025, the North American Electric Reliability Corporation submitted an annual report on the Find, Fix, Track and Compliance Exception programs, in accordance with the Federal Energy Regulatory Commission's (Commission) Orders.¹

¹ See N. Am. Elec. Reliability Corp., 138 FERC ¶ 61,193 (2012); N. Am. Elec. Reliability Corp., 143 FERC ¶ 61,253 (2013); N. Am. Elec. Reliability Corp., 148 FERC ¶ 61,214 (2014); N. Am. Elec. Reliability Corp., Docket No. RC11-6-004 (Nov. 13, 2015) (delegated letter order).

Any person desiring to intervene or to protest this filing must file in accordance with Rules 211 and 214 of the Commission's Rules of Practice and Procedure (18 CFR 385.211, 385.214). Such notices, motions, or protests must be filed on or before the comment date.

The Commission encourages electronic filings of comments, protests and interventions in lieu of paper using the “eFiling” link at http://www.ferc.gov. Persons unable to file electronically may mail similar pleadings to the Federal Energy Regulatory Commission, 888 First Street NE, Washington, DC 20426.

The filing is accessible online through the Commission's Home Page (http://www.ferc.gov) using the “eLibrary” link. For assistance with any FERC Online service, email FERCOnlineSupport@ferc.gov or call toll-free, (886) 208-3676 or TYY, (202) 502-8659.

The Commission's Office of Public Participation (OPP) supports meaningful public engagement and participation in Commission proceedings. OPP can help members of the public, including landowners, environmental justice communities, Tribal members and others, access publicly available information and navigate Commission processes. For public inquiries and assistance with making filings, the public is encouraged to contact OPP at (202) 502-6595 or OPP@ferc.gov.

Comment Date: 5:00 p.m. Eastern Time on October 8, 2025.

Dated: September 24, 2025.
Carlos D. Clay,
Deputy Secretary.

[FR Doc. 2025-18836 Filed 9-26-25; 8:45 am]

BILLING CODE 6717-01-P